FEDERAL COMMUNICATIONS COMMISSION

[DA 11-390]

Video Programming and Accessibility Advisory Committee; Announcement of Date of Next Meeting

AGENCY: Federal Communications Commission.

ACTION: Notice.

SUMMARY: This document announces the next meeting of the Video Programming Accessibility Advisory Committee (“Committee” or “VPAAC”). The meeting will address the provision of closed captioning of Internet programming previously captioned on television, video description of television programming, accessible emergency information for people with vision disabilities delivered over video programming, video programming devices that can render closed captioning and video description, and accessible user interfaces, menus, and programming guides on video programming devices.

DATES: The Committee's next meeting will take place on Thursday, May 5, 2011, 9 a.m. to 5 p.m. at the headquarters of the Federal Communications Commission (“Commission”).

ADDRESSES: Federal Communications Commission, 445 12th Street, SW., Washington, DC 20554.

FOR FURTHER INFORMATION CONTACT: Pam Gregory, Consumer and Governmental Affairs Bureau, 202-418-2498 (voice), 202-418-1169 (TTY), or Pam.Gregory@fcc.gov (e-mail); or Alison Neplokh, Media Bureau, 202-418-1083, Alison.Neplokh@fcc.gov (e-mail).

SUPPLEMENTARY INFORMATION: On December 7, 2010, in document DA-2320, Chairman Julius Genachowski announced the establishment and appointment of members of the VPAAC, following a nominations period that closed on November 1, 2010. This Committee is established in accordance with the Twenty-First Century Communications and Video Accessibility Act of 2010, Public Law 111-260 (“CVAA”). The purpose of the VPAAC is to develop recommendations on closed captioning of Internet programming previously captioned on television; the compatibility between video programming delivered using Internet protocol and devices capable of receiving and displaying such programming in order to facilitate access to captioning, video description and emergency information; video description and accessible emergency information on television programming delivered using Internet protocol or digital broadcast television; accessible user interfaces on video programming devices; and accessible programming guides and menus. Within six (6) months of its first meeting, the VPAAC shall submit recommendations concerning the provision of closed captions for Internet-delivered video programming and the ability of video devices to pass through or render closed captions contained on Internet-based video programming. By April 8, 2012, the VPAAC shall submit recommendations on the remaining issues listed above.

Open captioning and sign language interpreters will be provided. Other reasonable accommodations for people with disabilities are available upon request. Please include a description of the accommodation you will need and tell us how to contact you if we need more information. Make your request as early as possible. Last minute requests will be accepted, but may be impossible to fill. Send an e-mail to fcc504@fcc.gov or call the Consumer and Governmental Affairs Bureau at 202-418-0530 (voice), 202-418-0432 (TTY).To request materials in accessible formats for people with disabilities (Braille, large print, electronic files, audio format), send an e-mail to fcc504@fcc.gov or call the Consumer and Governmental Affairs Bureau at (202) 418-0530 (voice), (202) 418-0432 (TTY).

Federal Communications Commission.
Karen Peltz Strauss,
Deputy Chief, Consumer and Governmental Affairs Bureau.

[FR Doc. 2011-8211 Filed 4-6-11; 8:45 am]

BILLING CODE 6712-01-P